FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

DTS World Cargo Services, Inc. dba DTS World Cargo (NVO & OFF), 8338 Park Place, Suite A, Houston, TX 77017, Officer: Martha I. Mendez-Cazares, President/Secretary (Qualifying Individual), Application Type: New NVO & OFF License.

Expedited American Cargo, Corp (NVO & OFF), 9462 NW 13th Street, #70, Miami, FL 33172, Officers: Miluska Berrocal, President (Qualifying Individual), Blanca B. Guerra, Secretary, Application Type: New NVO & OFF License.

Four Points Ocean Inc. (NVO & OFF), 1460 Route 9 North, Suite 303, Woodbridge, NJ 07095, Officers: Joseph Felitto, President/Director/Treasurer (Qualifying Individual), William Roach, Vice President/Director, Application Type: Add NVO Service.

Global Shipping Ministries, Inc. (OFF), 725 Mountain Ash Way, Deltona, FL 32725, Officers: Mikhail A. Menendez, President (Qualifying Individual), Saperna L. Menendez, Vice President, Application Type: New OFF.

NW Forwarding, LLC (NVO & OFF), 618 S. 223rd Street, #3, Des Moines, WA 98198, Officer: Bruce R. Harris, Member (Qualifying Individual), Application Type: New NVO & OFF License.

Piscon Guardian Overseas, Inc. (OFF), 2428 Moreland Avenue, Atlanta, GA 30315, Officers: Obewu Ojebe, CEO/CFO (Qualifying Individual), Saroya Hardaway, Secretary, Application Type: New OFF.

Senderex Cargo Inc. (NVO & OFF), 5451 104th Street, Los Angeles, CA 90045, Officer: Roger C. Anderson, CEO (Qualifying Individual), Application Type: Add NVO Service.

Transcar De Oriente USA LLC (NVO & OFF), 7512 NW. 54th Street, Miami, FL 33166, Officers: Claudia Lopez, Manager (Qualifying Individual), Alejandro Tortorella, Manager, Application Type: New NVO & OFF License.

ULG Logistics Inc (NVO & OFF), 3952 Merrick Road, Seaford, NY 11783, Officers: Joseph P. Ting, President (Qualifying Individual), Man C. Soo, Treasurer, Application Type: New NVO & OFF License.

Warehouse Division of World Terminal and Distributing, Corporation dba WTDC (NVO & OFF), 2801 NW. 74th Avenue, #100, Miami, FL 33122, Officer: Ralph Gazitua, President/Secretary (Qualifying Individual), Application Type: New NVO & OFF License.

Worldwide Cargo Services, Inc. (NVO), 2 Johnson Road, Lawrence, NY 11559, Officers: Scott Halfon, Treasurer (Qualifying Individual), Mark A. Parrotto, President/Secretary, Application Type: New NVO License.

Dated: May 4, 2012.
Karen V. Gregory,
Secretary.

[FR Doc. 2012-11236 Filed 5-9-12; 8:45 am]

BILLING CODE 6730-01-P